DEPARTMENT OF VETERANS AFFAIRS

[OMB Control No. 2900-0154]

Agency Information Collection (Application for VA Education Benefits, Application for Family Member to Use Transferred Benefits, Application for VA Education Benefits Under the National Call to Service (NCS) Program and Application for Veterans Retraining Assistance Program) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 4, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0154” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0154.”

SUPPLEMENTARY INFORMATION: Title: Application for VA Education Benefits, Application for Family Member to Use Transferred Benefits, Application for VA Education Benefits Under the NCS Program and Application for Veterans Retraining Assistance Program.

OMB Control Number: 2900-0154.

Type of Review: Revision of a currently approved collection.

Abstract

A. VA Form 22-1990 is completed by claimants who are submitting an initial (or original) claim for VA education benefits.

B. VA Form 22-1990E is completed by a claimant who wishes to transfer his or her Montgomery GI Bill entitlement to their dependent(s).

C. VA Form 22-1990N is used by a claimant who signed an enlistment contract with the Department of Defense for the NCS program and elected one of two education incentives.

D. VA Form 22-1990R is used by a claimant to request assistance in retraining to enter the workforce.

An agency may not conduct or sponsor, and a person is not required to respond to a collection of information unless it displays a currently valid OMB control number. The Federal Register Notice with a 60-day comment period soliciting comments on this collection of information was published at 80 FR 31694 on December 17, 2015, pages 78820-78821.

Affected Public: Individuals or Households.

Estimated Annual Burden: 214,881 hours.

Estimated Average Burden per Respondent: 15 minutes.

Frequency of Response: One-time.

Estimated Number of Respondents: 859,522 respondents.

• VA Form 22-1990 consists of 859,128 responses received via (Paper & VONAPP) for 2013, 2014 and 2015 rendering a total of 214,783 burden hours.

• VA Form 22-1990N consists of 37 responses received via (VONAPP) for 2013, 2014 and 2015 rendering a total of 9 burden hours.

• VA Form 1990E consists of 357 responses received via (VONAPP) for 2013, 2014 and 2015 rendering a total of 89 burden hours.

• VA Form 22-1990R consists of 0 responses received via (VONAPP for 2013, 2014 and 2015 rendering 0 burden hours.

By direction of the Secretary.
Kathleen M. Manwell,
Program Analyst, VA Privacy Service, Office of Privacy and Records Management, Department of Veterans Affairs.

[FR Doc. 2016-07446 Filed 4-1-16; 8:45 am]

BILLING CODE 8320-01-P